DEPARTMENT OF HEALTH AND HUMAN SERVICES

Substance Abuse and Mental Health Services Administration

Notice of Meetings

Pursuant to Public Law 92-463, notice is hereby given of the following meetings of SAMHSA Special Emphasis Panels I in January and February 2003.

A summary of the meetings and a roster of the members may be obtained from: Ms. Coral Sweeney, Review Specialist, SAMHSA, Division of Extramural Policy Management, Review Branch, 5600 Fishers Lane, Room 17-89, Rockville, Maryland 20857. Telephone: 301-443-2998.

Substantive program information may be obtained from the individual named as Contact for the meeting listed below.

The meetings will include the review, discussion and evaluation of individual grant applications. These discussions could reveal personal information concerning individuals associated with the applications. Accordingly, these meetings are concerned with matters exempt from mandatory disclosure in title 5 U.S.C. 552b(c)(6) and 5 U.S.C. App. 2, 10(d).

Committee Name: SAMHSA Special Emphasis Panel I (SEP I).

Meeting Date: January 29, 2003.

Place: Substance Abuse and Mental Health Services Administration, Division of Extramural Policy Management, Review Branch, 5600 Fishers Lane, Room 17-89, Rockville, Maryland 20857.

Closed: January 29, 2003.

Panel: Evaluation Technical Assistance Center, SM 03-002.

Contact: Diane McMenamin, Division of Extramural Policy Management, Review Branch, Parklawn Building, 5600 Fishers Lane, Room 1789, Rockville, Maryland 20857.

Committee Name: SAMHSA Special Emphasis Panel I (SEP I).

Meeting Date: February 3-7, 2003.

Place: Bethesda Marriott, 5151 Pooks Hill Road, Bethesda, MD 20814.

Closed: 8:30 a.m. February 3, 2003 to adjournment February 7, 2003.

Panel: Targeted Capacity Expansion-Prevention and Early Intervention, SM 03-004—3 Committees.

Contact: Diane McMenamin, Division of Extramural Policy Management, Review Branch, Parklawn Building, 5600 Fishers Lane, Room 1789, Rockville, Maryland 20857.

Committee Name: SAMHSA Special Emphasis Panel I (SEP I).

Meeting Date: February 3-5, 2003.

Place: Bethesda Marriott, 5151 Pooks Hill Road, Bethesda, MD 20814.

Closed: 8:30 a.m. February 3, 2003 to adjournment February 5, 2003.

Panel: American Indian/Alaska Native—NRC SP 03-001, 1 Committee.

Contact: Diane McMenamin, Division of Extramural Policy Management, Review Branch, Parklawn Building, 5600 Fishers Lane, Room 1789, Rockville, Maryland 20857.

Dated: January 3, 2003.
Diane McMenamin,
Division of Extramural Policy Management, Review Branch, Substance Abuse and Mental Health Services Administration.

[FR Doc. 03-907 Filed 1-15-03; 8:45 am]

BILLING CODE 4162-20-P